ENVIRONMENTAL PROTECTION AGENCY

[EPA-HQ-OPP-2005-0128; FRL-8852-6]

Tetrahydro-3, 5-dimethyl-2H-1, 3, 4-thiadiazine-2-thione; Amendment To Terminate and or Delete Certain Uses

AGENCY: Environmental Protection Agency (EPA).

ACTION: Notice.

SUMMARY: This notice announces EPA's order for the amendment to terminate and/or delete certain uses, voluntarily requested by the registrant and accepted by the Agency, of the products, listed in Table 1, pursuant to section 6(f)(1) of the Federal Insecticide, Fungicide, and Rodenticide Act (FIFRA), as amended. This order follows a September 10, 2010 Federal Register Notice of Receipt of Request from the registrant listed in Table 2 to voluntarily amend their tetrahydro-3, 5-dimethyl-2H-1, 3, 4-thiadiazine-2-thione (Dazomet) product registrations to terminate or delete one or more uses. The request would terminate the uses listed in Table 1 of Unit II. The request would delete the uses listed in Table 2 of Unit II. The request would not terminate the last tetrahydro-3, 5-dimethyl-2H-1, 3, 4-thiadiazine-2-thione products registered for use in the United States and would result in retention of some registered uses for those products. In the September 10, 2010 notice, EPA indicated that it would issue an order implementing the amendments to terminate uses, unless the Agency received substantive comments within the 30-day comment period that would merit its further review of these requests, or unless the registrant withdrew their request within this period. The Agency did not receive any comments on the notice. Further, the registrant did not withdraw their request. Accordingly, EPA hereby issues in this notice a cancellation order granting the requested amendment to terminate uses. Any distribution, sale, or use of the products subject to this cancellation order is permitted only in accordance with the terms of this order, including any existing stocks provisions.

DATES: The order is effective December 20, 2010.

FOR FURTHER INFORMATION CONTACT: Abigail Downs, Antimicrobials Division (7510P), Office of Pesticide Programs, Environmental Protection Agency, 1200 Pennsylvania Ave., NW., Washington, DC 20460-0001; telephone number: (703) 305- 5259; e-mail address: downs.abigail@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2005-0128. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the agency taking?

This notice announces the amendment to terminate and or delete certain uses, as requested by the registrant, of products registered under section 3 of FIFRA. These registrations are listed in sequence by registration number, product name, and uses to be terminated in Table 1 of this unit, and uses to be deleted in Table 2 of this unit.

Table 1—Tetrahydro-3, 5-dimethyl-2H-1, 3, 4-thiadiazine-2-thione; Amendment To Terminate Certain Uses
Registration No. | Product name | Uses to be terminated
67869-18 | N521 Technical | Air washer systems; eating establishments; Hospitals and related institutions; commercial institutions; institutional and industrial areas/premises; swimming pool water systems; household or domestic dwelling contents; irrigation systems.
67869-46 | VeriGuard OD | Metal Working Fluids.

Table 2—Tetrahydro-3, 5-dimethyl-2H-1, 3, 4-thiadiazine-2-thione; Amendment To Delete Certain Uses
Registration No. | Product name | Use to be deleted
67869-18 | N521 Technical | Evaporated condenser water systems.

Table 3 of this unit includes the name and address of record for the registrant of the products in Tables 1 and 2 of this unit.

Table 3—Registrant of Amended Product
EPA Company No. | Company name and address
67869 | Verichem, Inc., 3499 Grand Avenue, Pittsburgh, PA 15225.

III. Summary of Public Comments Received and Agency Response to Comments

During the public comment period provided, EPA received no comments in response to the September 10, 2010 Federal Register notice (75 FR 55327) announcing the Agency's receipt of the request to voluntarily amend registrations to terminate certain uses of products listed in Table 1.

IV. Cancellation Order

Pursuant to FIFRA section 6(f), EPA hereby approves the requested amendment to terminate uses of tetrahydro-3, 5-dimethyl-2H-1,3,4-thiadiazine-2-thione registrations identified in Table 1 of Unit II and delete uses of tetrahydro-3, 5-dimethyl-2H-1,3,4-thiadiazine-2-thione registrations identified in Table 2 of Unit II. Accordingly, the Agency orders that the product registrations identified in Table 1 of Unit II are hereby amended to terminate the affected uses, also listed in Table 1. Any distribution, sale, or use of existing stocks of the products identified in Table 1 of Unit II. in a manner inconsistent with any of the Provisions for Disposition of Existing Stocks set forth in Unit VI. will be considered a violation of FIFRA.

V. What is the agency's authority for taking this action?

Section 6(f)(1) of FIFRA provides that a registrant of a pesticide product may at any time request that any of its pesticide registrations be canceled or amended to terminate one or more uses. FIFRA, further provides that, before acting on the request, EPA must publish a notice of receipt of any such request in the Federal Register. Thereafter, following the public comment period, the Administrator may approve such a request.

VI. Provisions for disposition of existing stocks

Existing stocks are those stocks of registered pesticide products which are currently in the United States and which were packaged, labeled, and released for shipment prior to the effective date of the action. The existing stocks provision for the products subject to this order is as follows.

Once EPA has approved product labels reflecting the requested amendments to delete uses, registrants will be permitted to sell or distribute products under the previously approved labeling for a period of 18 months after the date of Federal Register publication of the cancellation order, unless other restrictions have been imposed. Thereafter, registrants will be prohibited from selling or distributing the products whose labels include the deleted uses identified in Table 1 of Unit II., except for export consistent with FIFRA section 17 or for proper disposal.

Persons other than the registrant may sell, distribute, or use existing stocks of products whose labels include the deleted uses until supplies are exhausted, provided that such sale, distribution, or use is consistent with the terms of the previously approved labeling on, or that accompanied, products bearing the deleted uses.

List of Subjects

Environmental protection, Pesticides and pests.

Dated: November 30, 2010.
Joan Harrigan-Farrelly,
Director, Antimicrobials Division, Office of Pesticide Programs.

[FR Doc. 2010-31875 Filed 12-17-10; 8:45 am]

BILLING CODE 6560-50-P